NATIONAL SCIENCE FOUNDATION

Notice of Permit Applications Received Under the Antarctic Conservation Act of 1978

AGENCY: National Science Foundation

ACTION: Notice of permit applications received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by October 11, 2016. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2017-014

1. Applicant: Jerry McDonald (Principal in Charge), Leidos Innovations Group, Antarctic Support Contract, 7400 S. Tucson Way, Centennial, CO 80112-3938.

Activity for Which Permit Is Requested

Enter Antarctic Specially Protected Areas (ASPAs). The applicant plans to transit through three marine ASPAs (ASPA 145 Port Foster, Deception Island, South Shetland Islands; ASPA 152 Western Bransfield Strait and ASPA 153 Eastern Dallmann Bay) only when necessary and when transit through the areas does not jeopardize the values to be protected as described in each management plan.

Location

ASPA 145 Port Foster, Deception Island, South Shetland Islands

ASPA 152 Western Bransfield Strait

ASPA 153 Eastern Dallmann Bay

Dates

September 1, 2016 to September 1, 2021

Permit Application: 2017-015

2. Applicant: Jerry McDonald (Principal in Charge), Leidos Innovations Group, Antarctic Support Contract, 7400 S. Tucson Way, Centennial, CO 80112-3938.

Activity for Which Permit Is Requested

Enter Antarctic Specially Protected Areas (ASPAs). The following ASPAs contain historic huts from the Heroic Age of Antarctic Exploration: ASPA 155 Cape Evans, Ross Island; ASPA 157 Backdoor Bay, Cape Royds, Ross; ASPA 158 Hut Point, Ross Island and ASPA 159 Cape Adare, Borchgrevink Coast.

The permit will allow educational visits to the historic huts for persons associated with the United States Antarctic Program. All visits will be conducted in accordance with the management plan for the specific sites.

Location

ASPA 155 Cape Evans, Ross Island

ASPA 157 Backdoor Bay, Cape Royds, Ross

ASPA 158 Hut Point, Ross Island

ASPA 159 Cape Adare, Borchgrevink Coast

Dates

September 1, 2016 to September 1, 2021

Permit Application: 2017-016

2. Applicant: Jerry McDonald (Principal in Charge), Leidos Innovations Group, Antarctic Support Contract, 7400 S. Tucson Way, Centennial, CO 80112-3938.

Activity for Which Permit Is Requested

Enter Antarctic Specially Protected Areas (ASPAs). The following sites will potentially be visited: ASPA 105 Beaufort Island, McMurdo Sound, Ross Sea; ASPA 116 New College Valley, Caughley Beach, Cape Bird, Ross Island; ASPA 121 Cape Royds, Ross Island; ASPA 122 Arrival Heights, Hut Point Peninsula, Ross Island; ASPA 124 Cape Crozier, Ross Island; ASPA 155 Cape Evans, Ross Island; ASPA 157 Backdoor Bay, Cape Royds, Ross; ASPA 158 Hut Point, Ross Island; and ASPA 172 Lower Taylor Glacier and Blood Falls, Taylor Valley, McMurdo Dry Valleys, Victoria Land. The purpose is to gather professional video footage, still photographs, and to Interview scientists. Any footage, pictures, Interviews, and information gathered during site visits to the ASPA's could potentially be used in outreach videos, archived for future use, or be published in The Antarctic Sun, the official online news publication of the U.S. Antarctic Program which is managed by the National Science Foundation. Visits to the ASPA's listed in this application will be limited as operational, scientific conditions, and the availability of transportation permit.

Location

ASPA 105 Beaufort Island, McMurdo Sound, Ross Sea

ASPA 116 New College Valley, Caughley Beach, Cape Bird, Ross Island

ASPA 121 Cape Royds, Ross Island

ASPA 122 Arrival Heights, Hut Point Peninsula, Ross Island

ASPA 124 Cape Crozier, Ross Island

ASPA 155 Cape Evans, Ross Island

ASPA 157 Backdoor Bay, Cape Royds, Ross

ASPA 158 Hut Point, Ross Island

ASPA 172 Lower Taylor Glacier and Blood Falls, Taylor Valley, McMurdo Dry Valleys, Victoria Land

Dates

September 1, 2016 to September 1, 2021

Permit Application: 2017-017

3. Applicant: Jerry McDonald (Principal in Charge), Leidos Innovations Group, Antarctic Support Contract, 7400 S. Tucson Way, Centennial, CO 80112-3938.

Activity for Which Permit Is Requested

Take. Periodically native mammal and bird species enter the aircraft runways, the roads, and the ice pier at McMurdo Station, or the pier or general station area at Palmer Station. Such invasions pose operational safety concerns as well as the potential to harm the animals. As such, it will be necessary to herd these animals out of harm's way. The herding method uses non-lethal and humane techniques to cause as little disturbance as possible to the animals. The primary technique consists of personnel slowly approaching the animals with their arms outstretched to the sides, and continuing toward the animal until they have been moved approximately 20 to 30 feet from the operational area. Occasionally, it may be necessary to use flags mounted on bamboo poles in order to steer animals out of the operational areas. Individuals tasked with wildlife removal will be trained in proper techniques designed to minimize disturbance.

Location

McMurdo Station and associated operational sites, Ross Island and Palmer Station, Antarctic Peninsula.

Dates

September 1, 2016 to September 1, 2021

Permit Application: 2017-018

4. Applicant: Jerry McDonald (Principal in Charge), Leidos Innovations Group, Antarctic Support Contract, 7400 S. Tucson Way, Centennial, CO 80112-3938.

Activity for Which Permit Is Requested

Entry into ASPA 122 Arrival Heights, Hut Point Peninsula, Ross Island in order to conduct scientific projects already in place, or conduct projects added during the term of this permit. Scientists conduct research projects that include, but are not limited to operation of an ELFNLF receiver, riometer and magnetometer for studies of the earth's magnetic field and ionosphere, high latitude neutral mesospheric and thermospheric dynamics and thermodynamics, UV monitoring, aerosols investigations, and pollution surveys. Daily access is needed for equipment monitoring, data acquisition, calibrations, and repairs. Scientific visitors may enter the site for educational and for oversight purposes. Personnel from the Antarctic Support Contractor departments may be called upon to perform inspections, maintenance, fueling, or repair functions at the facilities within the ASPA. Other personnel will need to enter the ASPA to monitor and maintain or repair weather equipment within the site. Government officials may enter the site to observe and determine whether modifications to the Management Plan or the USAP implementing procedures are warranted.

Location

ASPA 122 Arrival Heights, Hut Point Peninsula, Ross Island

Dates

September 1, 2016 to September 1, 2021

Permit Application: 2017-019

5. Applicant: Jerry McDonald (Principal in Charge), Leidos Innovations Group, Antarctic Support Contract, 7400 S. Tucson Way, Centennial, CO 80112-3938.

Activity for Which Permit Is Requested

Enter Antarctic Specially Protected Areas: ASPA 113 Litchfield Island, Arthur Harbor, Anvers Island, Palmer Archipelago; ASPA 117 Avian Island, Marguerite Bay, Antarctic Peninsula; ASPA 128 Western shore of Admiralty Bay, King George Island, South Shetland Islands; ASPA 139 Biscoe Point, Anvers Island, Palmer Archipelago; and ASPA 149 Cape Shirreff and San Telmo Island, Livingston Island, South Shetland Islands. The Antarctic Support Contractor's staff provides routine logistics support in the transport of science teams and supporting personnel, and in field camp put-in and take-out. Entry into an ASPA would occur only to support a science project for which a permit has been issued. Entry needs and requirements will be reviewed by ASC Environmental Health and Safety Department prior to entry and reported per standard procedures.

Location

ASPA 113 Litchfield Island, Arthur Harbor, Anvers Island, Palmer Archipelago

ASPA 117 Avian Island, Marguerite Bay, Antarctic Peninsula

ASPA 128 Western shore of Admiralty Bay, King George Island, South Shetland Islands

ASPA 139 Biscoe Point, Anvers Island, Palmer Archipelago

ASPA 149 Cape Shirreff and San Telmo Island, Livingston Island, South Shetland Islands

Dates

September 1, 2016 to September 1, 2021

Permit Application: 2017-020

6. Applicant: Permit Application: 2017-020, Jerry McDonald (Principal in Charge), Leidos Innovations Group, Antarctic Support Contract, 7400 S. Tucson Way, Centennial, CO 80112-3938.

Activity for Which Permit Is Requested

Introduce non-indigenous species into Antarctica. An ACA permit is requested for import and use of a commercially available, bacteria supplement for municipal Wastewater Treatment Plants, to be used in the wastewater treatment plant at McMurdo Station, Antarctica. Benefits include better sludge settling and dewatering, control of surface foam and filamentous growth, reduction of total sludge volume and improved plant performance even in well-operated treatment plants. This supplement is a proprietary mixture of enzymatic substrate, nutrient base and bacteria for the treatment process. Bacteria would not be released to the marine environment. Most of the bacteria are eventually captured in the wastewater treatment plant's solids that are dewatered, compressed and retrograded to the U.S. The effluent from the wastewater treatment plant is treated with a UV sterilization system before it is discharged from the plant, killing all remaining bacteria before it reaches the sewage outfall.

Location

McMurdo Station, Ross Island, Antarctica

Dates

September 1, 2016 to September 1, 2021

Permit Application: 2017-021

7. Applicant: Jerry McDonald (Principal in Charge), Leidos Innovations Group, Antarctic Support Contract, 7400 S. Tucson Way, Centennial, CO 80112-3938.

Activity for Which Permit Is Requested

Enter Antarctic Specially Protected Areas (ASPAs): ASPA 121 Cape Royds, Ross Island; ASPA 122 Arrival Heights, Hut Point Peninsula, Ross Island; ASPA 124 Cape Crozier, Ross Island; ASPA 131 Canada Glacier, Lake Fryxell, Taylor Valley, Victoria Land; ASPA 137 North-west White Island, McMurdo Sound; ASPA 138 Linneaus Terrace, Asgard Range, Victoria Land; ASPA 172 Lower Taylor Glacier and Blood Falls, Taylor Valley, McMurdo Dry Valleys, Victoria Land; and ASPA 175 High Altitude Geothermal sites of the Ross Sea region. The Antarctic Support Contractor's staff provides routine logistics support in the transport of science teams and supporting personnel. Additionally, staff is required to conduct occasional operations, maintenance, construction, and rehabilitation activities in support of science at designated ASPA locations in the Ross Island Area. Petroleum Helicopters Incorporated is the primary means of transport for grantees and support personnel to and from sites; a pilot and helicopter technician would also enter the ASPA. Entry into an ASPA would occur only to support a science project for which a permit has been issued. Entry needs and requirements will be reviewed by ASC Environmental Health and Safety Department prior to entry and reported per standard procedures.

Location

ASPA 121 Cape Royds, Ross Island

ASPA 122 Arrival Heights, Hut Point Peninsula, Ross Island

ASPA 124 Cape Crozier, Ross Island

ASPA 131 Canada Glacier, Lake Fryxell, Taylor Valley, Victoria Land

ASPA 137 North-west White Island, McMurdo Sound

ASPA 138 Linneaus Terrace, Asgard Range, Victoria Land

ASPA 172 Lower Taylor Glacier and Blood Falls, Taylor Valley, McMurdo Dry Valleys, Victoria Land

ASPA 175 High Altitude Geothermal sites of the Ross Sea region

Dates

September 1, 2016 to September 1, 2021

Permit Application: 2017-022

8. Applicant: Jerry McDonald (Principal in Charge), Leidos Innovations Group, Antarctic Support Contract, 7400 S. Tucson Way, Centennial, CO 80112-3938.

Activity for Which Permit Is Requested

Introduce non-indigenous species into Antarctica. An ACA permit is requested for import of a of the commercially available freeze-dried marine bacterium Vibrio fisheri for experimental use and calibration of equipment at the Crary Science and Engineering Center McMurdo Station. The bacterium is used as one of the reagents for the Microtox toxicity analyzer. All equipment used with the bacterium will be autoclaved to destroy any residual bacteria; there will be no release to the environment.

Location

McMurdo Station, Ross Island, Antarctica

Dates

September 1, 2016 to September 1, 2021

Permit Application: 2017-023

9. Applicant: Jerry McDonald (Principal in Charge), Leidos Innovations Group, Antarctic Support Contract, 7400 S. Tucson Way, Centennial, CO 80112-3938.

Activity for Which Permit Is Requested

Enter Antarctic Specially Protected Areas (ASPAs): ASPA 105 Beaufort Island, McMurdo Sound, Ross Sea; ASPA 106 Cape Hallett, Northern Victoria Land, Ross Sea; ASPA 113 Litchfield Island, Arthur Harbor, Anvers Island, Palmer Archipelago; ASPA 121 Cape Royds, Ross Island; ASPA 122 Arrival Heights, Hut Point Peninsula, Ross Island; ASPA 123 Barwick and Balham Valleys, Southern Victoria Land; ASPA 124 Cape Crozier, Ross Island; ASPA 131 Canada Glacier, Lake Fryxell, Taylor Valley, Victoria Land; ASPA 137 North-west White Island, McMurdo Sound; ASPA 138 Linneaus Terrace, Asgard Range, Victoria Land; ASPA 139 Biscoe Point, Anvers Island, Palmer Archipelago; ASPA 154 Botany Bay, Cape Geology, Victoria Land; ASPA 172 Lower Taylor Glacier and Blood Falls, Taylor Valley, McMurdo Dry Valleys, Victoria Land; and ASPA 175 High Altitude Geothermal sites of the Ross Sea region. The purpose is to conduct a review of the ASPA management plans, which normally occurs every five years per the Protocol on Environmental Protection to the Antarctic Treaty. The Antarctic Support Contract Environmental Health and Safety Department will enter an ASPA on an as needed basis. Reasons for entering the ASPA could be to collect information on site status in anticipation of the 5 year ASPA review, general management and maintenance concerns such as ensuring that all signs and boundary markers are legible and secured, or to address any environmental concern or potential environmental release within the ASPA. Visits for these management purposes would be pre-approved by the U.S. Antarctic Program's Environmental Officer.

Location

ASPA 105 Beaufort Island, McMurdo Sound, Ross Sea

ASPA 106 Cape Hallett, Northern Victoria Land, Ross Sea

ASPA 113 Litchfield Island, Arthur Harbor, Anvers Island, Palmer Archipelago

ASPA 121 Cape Royds, Ross Island

ASPA 122 Arrival Heights, Hut Point Peninsula, Ross Island

ASPA 123 Barwick and Balham Valleys, Southern Victoria Land

ASPA 124 Cape Crozier, Ross Island

ASPA 131 Canada Glacier, Lake Fryxell, Taylor Valley, Victoria Land

ASPA 137 North-west White Island, McMurdo Sound

ASPA 138 Linneaus Terrace, Asgard Range, Victoria Land

ASPA 139 Biscoe Point, Anvers Island, Palmer Archipelago

ASPA 154 Botany Bay, Cape Geology, Victoria Land

ASPA 172 Lower Taylor Glacier and Blood Falls, Taylor Valley, McMurdo Dry Valleys, Victoria Land

ASPA 175 High Altitude Geothermal sites of the Ross Sea region

Dates

September 1, 2016 to September 1, 2021

Nadene G. Kennedy,
Polar Coordination Specialist, Division of Polar Programs.

[FR Doc. 2016-21655 Filed 9-8-16; 8:45 am]

BILLING CODE 7555-01-P